DEPARTMENT OF TRANSPORTATION

Federal Aviation Administration

14 CFR Part 73

[Docket No. FAA-2010-1146; Airspace Docket No. 10-ASO-25]

Proposed Amendment of Restricted Areas R-2907A and R-2907B, Lake George, FL; and R-2910, Pinecastle, FL

AGENCY: Federal Aviation Administration (FAA), DOT.

ACTION: Notice of proposed rulemaking (NPRM).

SUMMARY: This action proposes to expand the lateral and vertical limits of restricted areas R-2907A and R-2907B, Lake George, FL; and restricted area R-2910, Pinecastle, FL. The U.S. Navy requested this action to provide the additional airspace needed to contain laser operations and other hazardous activities and to permit realistic training in current tactics. This action would enhance the margin of safety for air traffic in the Lake George and Pinecastle, FL, areas.

DATES: Comments must be received on or before February 7, 2011.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2010-1146 and Airspace Docket No. 10-ASO-25, at the beginning of your comments. You may also submit comments through the Internet at http://www.regulations.gov. Comments on environmental and land use aspects should be directed to: Commanding Officer, Naval Air Station Jacksonville, FL, Environmental Department, Attn: Mr. Bill Raspett, Bldg 1 Box 2, NAS Jacksonville, FL 32212-0020; telephone: (904) 542-4229.

FOR FURTHER INFORMATION CONTACT: Paul Gallant, Airspace Regulations and ATC Procedures Group, Office of Airspace Services, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Comments are also invited on the nonregulatory MOA portion of this proposal.

Communications should identify both docket numbers (FAA Docket No. FAA-2010-1146 and Airspace Docket No. 10-ASO-25) and be submitted in triplicate to the Docket Management System (see ADDRESSES section for address and phone number). You may also submit comments through the Internet at http://www.regulations.gov.

Commenters wishing the FAA to acknowledge receipt of their comments on this action must submit with those comments a self-addressed, stamped postcard on which the following statement is made: “Comments to FAA Docket No. FAA-2010-1146 and Airspace Docket No. 10-ASO-25.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/airports_airtraffic/air_traffic/publications/airspace_amendments/.

You may review the public docket containing the proposal, any comments received and any final disposition in person at the Dockets Office (see ADDRESSES section for address and phone number) between 9 a.m. and 5 p.m., Monday through Friday, except Federal holidays. An informal docket may also be examined during normal business hours at the office of the Operations Support Group, Eastern Service Center, Federal Aviation Administration, 1701 Columbia Ave., College Park, GA 30337.

Persons interested in being placed on a mailing list for future NPRMs should contact the FAA's Office of Rulemaking, (202) 267-9677, for a copy of Advisory Circular No. 11-2A, Notice of Proposed Rulemaking Distribution System, which describes the application procedure.

Background

The Pinecastle, FL, and Lake George, FL, restricted areas have, for many years, satisfied military training requirements. However, with the introduction of higher-performance and more versatile, multi-role fighter aircraft, as well as advanced weapons systems and employment tactics, the available airspace at the Pinecastle and Lake George complexes is inadequate to satisfy training requirements. In order to fully exploit the capabilities of today's fighter/attack aircraft and provide essential training that replicates the conditions units are encountering today during wartime deployments, it is necessary to expand the vertical and lateral limits of the current restricted areas. The U.S. Navy has proposed that the FAA expand R-2907A, R-2907B and R-2910 to provide enhanced air-to-ground weapons delivery tactical training to transform the Pinecastle/Lake George complex into a modern viable training asset.

Proposal

The FAA is proposing an amendment to 14 CFR part 73 to realign and expand the vertical and lateral limits of restricted areas R-2907A and R-2907B, Lake George, FL, and R-2910, Pinecastle, FL. This proposal would expand the boundaries of R-2907A westward to encompass that restricted airspace currently designated as R-2907B. In addition, the vertical limits in that section would be raised to FL 230 to match the current R-2907A ceiling. New restricted airspace would be established immediately to the north of the newly incorporated section of R-2907A. This new restricted area would extend northward from the expanded R-2907A boundary to abut the boundary of the southern half of existing restricted area R-2906, Rodman, FL. The R-2907B designation would be redescribed to identify this new restricted area. The new R-2907B would extend from 500 feet MSL up to FL 230. It should be noted that R-2906 would not be modified in any way by this proposal.

This proposal would also expand and restructure R-2910. The current designation, R-2910, would be removed and replaced by four sections: R-2910A, R-2910B, R-2910C and R-2910D. The new R-2910A would consist of existing restricted airspace contained in the current northwest extension of R-2910; the current R-2910 circular area; and that existing part of R-2910 that extends southeastward from the circular area to latitude 29°00′01″ North. The vertical limits of R-2910A would extend from the surface up to FL 230. The remaining section of the current R-2910 (i.e., the airspace south of latitude 29°00′01″ North) would be split into two new subareas, designated R-2910B and R-2910C, that would extend from the surface to 6,000 feet mean sea level (MSL). Setting the ceiling of these two subareas at 6,000 feet MSL would provide airspace to enable nonparticipating aircraft to circumnavigate the R-2910 complex while remaining outside the Orlando Class B airspace area. Also, dividing this part of the restricted area into B and C subareas would permit sections not needed for the military mission to be released to accommodate air traffic control requirements.

Additional new restricted airspace would be established within the airspace that lies between the new R-2910A and the expanded R-2907A. This new area would be designated R-2910D. R-2910D would be bounded on the north by R-2907A; on the south by R-2910A; on the east by the current eastern boundary of the Palatka 1 military operations area (MOA); and on the west by the western boundary of the Palatka 1 MOA. The northwesternmost end of R-2910D would be defined by a line that extends between lat. 29°15′55″ N., long. 81°56′40″ W. (located on the boundary of the Palatka 1 MOA) and lat. 29°20′06″ N., long. 81°51′49″ W. (at the northwest corner of the modified R-2907A). The vertical limits of R-2910D would be from 500 feet MSL to FL 230.

The time of designation for all of the above modified restricted areas would remain the same as currently published for the existing areas; that is: Intermittent, 0500-0100 local time, daily; other times by NOTAM 6 hours in advance. During periods when the airspace is not needed by the using agency for its designated purpose, the airspace would be returned to the controlling agency (i.e., Jacksonville ARTCC) for access by other airspace users.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would restructure restricted airspace at the Pinecastle, FL and Lake George, FL, military ranges to enhance safety and accommodate essential military training.

Environmental Review

This proposal will be subjected to an environmental analysis in accordance with FAA Order 1050.1E, “Environmental Impacts: Policies and Procedures,” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.29 [Amended]

2. § 73.29 is amended as follows:

* * * * *

R-2907A Lake George, FL [Amended]

By removing the current boundaries, controlling agency and using agency and substituting the following:

Boundaries. Beginning at lat. 29°22′51″ N., long. 81°31′19″ W.; to lat. 29°12′31″ N., long. 81°29′59″ W.; to lat. 29°12′31″ N., long. 81°38′29″ W.; to lat. 29°15′06″ N., long. 81°39′59″ W.; to lat. 29°15′06″ N., long. 81°51′49″ W.; to lat. 29°20′06″ N., long. 81°51′49″ W.; to lat. 29°20′06″ N., long. 81°39′59″ W.; to lat. 29°23′01″ N., long. 81°39′59″ W.; to lat. 29°23′01″ N., long. 81°38′54″ W.; thence clockwise along the 5-NM arc centered at lat. 29°19′12″ N., long. 81°35′14″ W. to the point of beginning.

Controlling agency. FAA Jacksonville ARTCC.

Using agency. U.S. Navy, Fleet Area Control and Surveillance Facility, Jacksonville (FACSFAC JAX), Jacksonville, FL.

* * * * *

R-2907B Lake George, FL [Amended]

By removing the current boundaries, designated altitudes and using agency and substituting the following:

Boundaries. Beginning at lat. 29°25′41″ N., long. 81°41′47″ W.; to lat. 29°23′01″ N., long. 81°39′59″ W.; to lat. 29°20′06″ N., long. 81°39′59″ W.; to lat. 29°20′06″ N., long. 81°51′49″ W.; to lat. 29°29′30″ N., long. 81°51′41″ W.; thence counterclockwise along a 5-NM arc centered at lat. 29°29′01″ N., long. 81°45′59″ W. to the point of beginning.

Designated altitudes. 500 feet MSL to FL 230.

Using agency. U.S. Navy, Fleet Area Control and Surveillance Facility, Jacksonville (FACSFAC JAX), Jacksonville, FL.

* * * * *

R-2910 Pinecastle, FL [Removed]

* * * * *

R-2910A Pinecastle, FL [New]

Boundaries. Beginning at lat. 29°07′58″ N., long. 81°48′29″ W.; to lat. 29°10′01″ N., long. 81°50′34″ W.; to lat. 29°14′01″ N., long. 81°45′49″ W.; to lat. 29°11′51″ N., long. 81°42′59″ W.; thence clockwise along a 5-NM arc centered at lat. 29°06′53″ N., long. 81°42′54″ W. to lat. 29°10′14″ N., long. 81°38′39″ W.; to lat. 29°00′00″ N., long. 81°30′00″ W.; to lat. 29°00′01″ N., long. 81°42′29″ W.; to lat. 29°03′15″ N., long. 81°46′50″ W.; thence clockwise along a 5-NM arc centered at lat. 29°06′53″ N., long. 81°42′54″ W. to the point of beginning.

Designated altitudes. Surface to FL 230.

Time of designation. Intermittent, 0500-0100 local, daily; other times by NOTAM, 6 hours in advance.

Controlling agency. FAA, Jacksonville ARTCC.

Using agency. U.S. Navy, Fleet Area Control and Surveillance Facility, Jacksonville (FACSFAC JAX), Jacksonville, FL.

* * * * *

R-2910B Pinecastle, FL [New]

Boundaries. Beginning at lat. 29°00′00″ N., long. 81°30′00″ W.; to lat. 28°57′56″ N., long. 81°28′24″ W.; to lat. 28°55′20″ N., long. 81°36′12″ W.; to lat. 29°00′01″ N., long. 81°42′29″ W.; to the point of beginning.

Designated altitudes. Surface to 6,000 feet MSL.

Time of designation. Intermittent, 0500-0100 local, daily; other times by NOTAM, 6 hours in advance.

Controlling agency. FAA, Jacksonville ARTCC.

Using agency. U.S. Navy, Fleet Area Control and Surveillance Facility, Jacksonville (FACSFAC JAX), Jacksonville, FL.

* * * * *

R-2910C Pinecastle, FL [New]

Boundaries. Beginning at lat. 28°57′56″ N., long. 81°28′24″ W.; to lat. 28°53′39″ N., long. 81°33′56″ W.; to lat. 28°55′20″ N., long. 81°36′12″ W.; to the point of beginning.

Designated altitudes. Surface to 6,000 feet MSL.

Time of designation. Intermittent, 0500-0100 local, daily; other times by NOTAM, 6 hours in advance.

Controlling agency. FAA, Jacksonville ARTCC.

Using agency. U.S. Navy, Fleet Area Control and Surveillance Facility, Jacksonville (FACSFAC JAX), Jacksonville, FL.

* * * * *

R-2910D Pinecastle, FL [New]

Boundaries. Beginning at lat. 29°12′31″ N., long. 81°29′59″ W.; to lat. 29°00′00″ N., long. 81°30′00″ W.; to lat. 29°10′14″ N., long. 81°38′39″ W.; thence counterclockwise along a 5-NM arc centered at lat. 29°06′53″ N., long. 81°42′54″ W.; to lat. 29°11′51″ N., long. 81°42′59″ W.; to lat. 29°14′01″ N., long. 81°45′49″ W.; to lat. 29°10′01″ N., long. 81°50′34″ W.; to lat. 29°15′55″ N., long. 81°56′40″ W.; to lat. 29°20′06″ N., long. 81°51′49″ W.; to lat. 29°15′06″ N., long. 81°51′49″ W.; to lat. 29°15′06″ N., long. 81°39′59″ W.; to lat. 29°12′31″ N., long. 81°38′29″ W.; to the point of beginning.

Designated altitudes. 500 feet MSL to FL 230.

Time of designation. Intermittent, 0500-0100 local, daily; other times by NOTAM, 6 hours in advance.

Controlling agency. FAA, Jacksonville ARTCC.

Using agency. U.S. Navy, Fleet Area Control and Surveillance Facility, Jacksonville (FACSFAC JAX), Jacksonville, FL.

* * * * *

Issued in Washington, DC, on December 14, 2010.
Edith V. Parish,
Manager, Airspace, Regulations and ATC Procedures.

[FR Doc. 2010-32046 Filed 12-21-10; 8:45 am]

BILLING CODE 4910-13-P